DEPARTMENT OF JUSTICE

Foreign Claims Settlement Commission

Commencement of Claims Program

AGENCY: Foreign Claims Settlement Commission of the United States, Department of Justice.

ACTION: Notice

SUMMARY: This notice announces the commencement by the Foreign Claims Settlement Commission (“Commission”) of a program for adjudication of certain categories of claims of United States nationals against the Government of Libya, as defined below, which were settled under the “Claims Settlement Agreement Between the United States of America and the Great Socialist People's Libyan Arab Jamahiriya” (“Claims Settlement Agreement”) effective August 14, 2008.

DATES: These claims can now be filed with the Commission and the deadline for filing will be June 13, 2014.

FOR FURTHER INFORMATION CONTACT: Brian M. Simkin, Chief Counsel, Foreign Claims Settlement Commission of the United States, 600 E Street NW., Room 6002, Washington, DC 20579, Tel. (202) 616-6975, FAX (202) 616-6993.

Notice of Commencement of Claims Adjudication Program

Pursuant to the authority conferred upon the Secretary of State and the Commission under subsection 4(a)(1)(C) of Title I of the International Claims Settlement Act of 1949 (Pub. L. 455, 81st Cong., approved March 10, 1950, as amended by Pub. L. 105-277, approved October 21, 1998 (22 U.S.C. 1623(a)(1)(C))), the Foreign Claims Settlement Commission hereby gives notice of the commencement of a program for adjudication of certain categories of claims of United States nationals against the Government of Libya. These claims, which have been referred to the Commission by the Department of State by letter dated November 27, 2013, are defined as follows:

Category A: This category shall consist of claims of U.S. nationals for physical injury who had claims in the Pending Litigation, but whose claims for physical injury were previously denied by the Commission for failure to plead for injury other than emotional injury alone in the Pending Litigation, provided that (1) the claim meets the standard for physical injury adopted by the Commission; (2) the claimant was a named party in the Pending Litigation; (3) the Pending Litigation against Libya has been dismissed before the claim is submitted to the Commission; and (4) the claimant has not received any compensation under any other distribution under the Claims Settlement Agreement and does not qualify for any other category of compensation in this referral except Category D.

Category B: This category shall consist of claims of U.S. nationals for mental pain and anguish who are living close relatives of a decedent provided that (1) the claim was set forth as a claim for emotional distress, solatium, or similar emotional injury by the claimant in the Pending Litigation; (2) the claim meets the standard adopted by the Commission for mental pain and anguish; (3) the claimant is not eligible for compensation as part of the associated wrongful death claim; and (4) the claimant has not received any compensation under any other distribution under the Claims Settlement Agreement, and does not qualify for any other category of compensation in this referral.

Category C: This category shall consist of claims of U.S. nationals who were held hostage or unlawfully detained in violation of international law during one of the terrorist incidents listed in Attachment 2 (“Covered Incidents”), provided that (1) the claimant was not a plaintiff in the Pending Litigation; (2) the claim meets the standard for such claims adopted by the Commission; and (3) the claimant has not received any compensation under any other distribution under the Claims Settlement Agreement, and does not qualify for any other category of compensation in this referral.

Category D: This category shall consist of claims of U.S. nationals for compensation for physical injury in addition to amounts already recovered under the Commission process initiated by the Department of State's January 15, 2009 referral or by this referral, provided that (1) the claimant has received an award for physical injury pursuant to the Department of State's January 15, 2009 referral or this referral; (2) the Commission determines that the severity of the injury is a special circumstance warranting additional compensation, or that additional compensation is warranted because the injury resulted in the victim's death; and (3) the claimant did not make a claim or receive any compensation under Category D of the Department of State's January 15, 2009 referral.

Category E: This category shall consist of claims of U.S. nationals for mental pain and anguish who are living close relatives of a decedent whose death formed the basis of a death claim compensated under the Claims Settlement Agreement, provided that (1) the claimant was not a plaintiff in the Pending Litigation; (2) the claimant is not eligible for compensation from the associated wrongful death claim, and the claimant did not receive any compensation from the wrongful death claim; (3) the claim meets the standard adopted by the Commission for mental pain and anguish; and (4) the claimant has not received any compensation under any other distribution under the Claims Settlement Agreement, and does not qualify for any other category of compensation in this referral.

Category F: This category shall consist of commercial claims of U.S. nationals provided that (1) the claim was set forth by a claimant named in Abbott et al. v. Socialist People's Libyan Arab Jamahiriya (D.D.C.) 1:94-cv-02444-SS; and (2) the Commission determines that the claim would be compensable under the applicable legal principles.

The “Pending Litigation” referenced above is composed of the following cases:

Baker v. Socialist People's Libyan Arab Jamahiriya (D.D.C.) 03-cv-749;

Pflug v. Socialist People's Libyan Arab Jamahiriya (D.D.C.) 08-cv-505.

Certain Underwriters at Lloyds London v. Great Socialist People's Libyan Arab Jamahiriya (D.D.C.) 06-cv-731.

Clay v. Socialist People's Libyan Arab Jamahiriya (D.D.C.) 06-cv-707.

Collett v. Socialist People's Libyan Arab Jamahiriya (D.D.C.) 01-cv-2103.

Cummock v. Socialist People's Libyan Arab Jamahiriya (D.D.C.) 02-cv-2134.

Estate of John Buonocore III v. Great Socialist Libyan Arab Jamahiriya (D.D.C.) 06-cv-727;

Simpson v. Great Socialist People's Libyan Arab Jamahiriya (D.D.C.) 08-cv-529.

Fisher v. Great Socialist People's Libyan Arab Jamahiriya (D.D.C.) 04-cv-2055.

Franqui v. Syrian Arab Republic, et al. (D.D.C.) 06-cv-734.

Hagerman v. Socialist People's Libyan Arab Jamahiriya (D.D.C.) 02-cv-2147.

Harris v. Socialist People's Libyan Arab Jamahiriya (D.D.C.) 06-cv-732.

Hartford Fire Insurance Company v. Socialist People's Libyan Arab Jamahiriya (D.D.C.) 98-cv-3096.

Kilburn v. Islamic Republic of Iran, et al. (D.D.C.) 01-cv-1301.

Knowland v. Great Socialist People's Libyan Arab Jamahiriya (D.D.C.) 08-cv-1309.

La Reunion Aerienne v. Socialist People's Libyan Arab Jamahiriya (D.D.C.) 05-cv-1932.

McDonald v. Socialist People's Arab Jamahiriya (D.D.C.) 06-cv-729.

MacQuarrie v. Socialist People's Libyan Arab Jamahiriya (D.D.C.) 04-cv-176.

Patel v. Socialist People's Libyan Arab Jamahiriya (D.D.C.) 06-cv-626.

Pugh v. Socialist People's Libyan Arab Jamahiriya (D.D.C.) 02-cv-2026.

Simpson v. Socialist People's Libyan Arab Jamahiriya (D.D.C.) 00-cv-1722.

Beecham, et al. v. Great Socialist People's Libyan Arab Jamahiriya, et al. (D.D.C.) 01-cv-2243.

The “Covered Incidents” referenced above for purposes of Category C are composed of the following:

May 30, 1972 attack at Lod Airport in Israel, as alleged in Franqui v. Syrian Arab Republic, et al. (D.D.C.) 06-cv-734.

December 17, 1983 vehicle bomb explosion near Harrods Department Store in Knightsbridge, London, England, as alleged in McDonald v. Socialist People's Arab Jamahiriya (D.D.C.) 06-cv-729.

November 30, 1984 (approximate) kidnapping and subsequent death of Peter C. Kilburn, as alleged in Kilburn v. Socialist People's Libyan Arab Jamahiriya (D.D.C.) 01-cv-1301.

March 25, 1985 (approximate) kidnapping and subsequent death of Alec L. Collett, as alleged in Collett v. Socialist People's Libyan Arab Jamahiriya (D.D.C.) 01-cv-2103.

November 23, 1985 hijacking of Egypt Air flight 648, as alleged in Certain Underwriters at Lloyds London v. Great Socialist People's Libyan Arab Jamahiriya (D.D.C.) 06-cv-731 and Baker v. Socialist People's Libyan Arab Jamahiriya (D.D.C.) 03-cv-749/Pflug v. Socialist People's Libyan Arab Jamahiriya (D.D.C.) 08-cv-505.

December 27, 1985 attack at the Leonardo da Vinci Airport in Rome, Italy, as alleged in Estate of John Buonocore III v. Great Socialist Libyan Arab Jamahiriya (D.D.C.) 06-cv-727/Simpson v. Great Socialist People's Libyan Arab Jamahiriya (D.D.C.) 08-cv-529.

December 27, 1985 attack at the Schwechat Airport in Vienna, Austria, as alleged in Knowland v. Great Socialist People's Libyan Arab Jamahiriya (D.D.C.) 08-cv-1309.

April 5, 1986 bombing of the La Belle Discotheque in Berlin, Germany, as alleged in Clay v. Socialist People's Libyan Arab Jamahiriya (D.D.C.) 06-cv-707 and Harris v. Socialist People's Libyan Arab Jamahiriya (D.D.C.) 06-cv-732.

September 5, 1986 hijacking of Pan Am flight 73, as alleged in Patel v. Socialist People's Libyan Arab Jamahiriya (D.D.C.) 06-cv-626.

Detention beginning February 10, 1987 of the passengers and crew of the private yacht “Carin 11,” as alleged in Simpson v. Socialist People's Libyan Arab Jamahiriya (D.D.C.) 00-cv-1722.

December 21, 1988 bombing of Pan Am flight 103, as alleged in Cummock v. Socialist People's Libyan Arab Jamahiriya (D.D.C.) 02-cv-2134, Fisher v. Great Socialist People's Libyan Arab Jamahiriya (D.D.C.) 04-cv-2055, Hagerman v. Socialist People's Libyan Arab Jamahiriya (D.D.C.) 02-cv-2147, Hartford Fire Insurance Company v. Socialist People's Libyan Arab Jamahiriya (D.D.C.) 98-cv-3096, and MacQuarrie v. Socialist People's Libyan Arab Jamahiriya (D.D.C.) 04-cv-176.

September 19, 1989 bombing of UTA flight 772, as alleged in La Reunion Aerienne v. Socialist People's Libyan Arab Jamahiriya (D.D.C.) 05-cv-1932 and Pugh v. Socialist People's Libyan Arab Jamahiriya (D.D.C.) 02-cv-2026.

In conformity with the terms of the referral, the Commission will determine the claims in accordance with the provisions of 22 U.S.C. 1621 et seq., which comprises Title I of the International Claims Settlement Act of 1949, as amended. The Commission will then certify to the Secretary of the Treasury those claims that it finds to be valid, for payment out of the claims fund established under the Claims Settlement Agreement.

The Commission will administer this claims adjudication program in accordance with its regulations, which are published in Chapter V of Title 45, Code of Federal Regulations (45 CFR part 500 et seq.). In particular, attention is directed to subsection 500.3(a) of these regulations which, based on 22 U.S.C. 1623(f), limits the amount of attorney's fees that may be charged for legal representation before the Commission. These regulations are also available over the Internet at http://www.gpoaccess.gov/cfr/index.html.

Approval has been obtained from the Office of Management and Budget for the collection of this information. Approval No. 1105-0100, expiration date 11/30/2016.

Brian M. Simkin,
Chief Counsel.

[FR Doc. 2013-29710 Filed 12-12-13; 8:45 am]

BILLING CODE 4410-01-P